DEPARTMENT OF DEFENSE

Defense Logistics Agency

Privacy Act of 1974; Systems of Records

AGENCY: Defense Logistics Agency, DoD.

ACTION: Notice to Add a System of Records.

SUMMARY: The Defense Logistics Agency proposes to add a system of records notice to its inventory of record systems subject to the Privacy Act of 1974 (5 U.S.C. 552a), as amended.

DATES: This action will be effective without further notice on March 24, 2003 unless comments are received that would result in a contrary determination.

ADDRESSES: Send comments to the Privacy Act Officer, Headquarters, Defense Logistics Agency, ATTN: DSS-C, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on January 27, 2003, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 12, 2003.
Patricia L. Toppings,
Alternate OSD Federal Register Liaison Officer, Department of Defense.

S180.30 DSCR

System name:

FOIA and Privacy Act Request Tracking System.

System location:

Defense Supply Center Richmond, 8000 Jefferson Davis Highway, Richmond, VA 23297-5100.

Categories of individuals covered by the system:

Individuals who have filed Freedom of Information Act (FOIA) or Privacy Act requests with the Defense Supply Center Richmond (DSCR).

Categories of records in the system:

The database includes name of requester, business or home address, business or home telephone and facsimile numbers, email address, pre-assigned Commercial and Government Entity code (if provided), a description of the records sought, and any additional details voluntarily included in the text of the request. The database also includes machine-entered information such as case number, date of receipt, and suspense date and human entered information such as processing costs, closeout date, final action on request, and similar administrative details. Where personal information is sought, the database may also include Social Security Number for identification purposes. The database does not include copies of the requested records.

Authority for maintenance of the system:

5 U.S.C. 552, Freedom of Information Act; 5 U.S.C. 552a, The Privacy Act of 1974, as amended; 10 U.S.C. 133, Under Secretary of Defense for Acquisition, Technology, and Logistics; and E.O. 9397 (SSN).

Purpose(s):

The records are maintained to administer the Freedom of Information and Privacy Act programs and to track requests received within DSCR. The files are also used to prepare annual and ad hoc reports.

Statistical data with all personal identifiers removed may be used by management for workload or manpower assessment and control.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of DLA's compilation of systems of records notices apply to this system.

Policies and practices for storing, retrieving, accessing, retaining and disposing of records in the system:

Storage:

Records are stored electronically.

Retrievability:

Records are retrieved by case number, individual's name, or business entity.

Safeguards:

Access to the database is limited to those who require the records in the performance of their official duties. Access is further restricted by the use of passwords which are changed periodically. Physical entry is restricted by the use of locks, guards, and administrative procedures. Employees are periodically briefed on the consequences of improperly accessing restricted databases.

Retention and disposal:

Cases involving full and partial denials; fee waiver, requester category, and expedited treatment denials; or other adverse determinations are maintained for 6 years. Cases involving full releases or administrative dispositions (such as transfers to other agencies; withdrawals by requester; inadequate descriptions; failure to pay fees; or other instances of noncompliance on the requester's part) are maintained for 2 years.

System manager(s) and address:

Freedom of Information/Privacy Act Officer, Defense Supply Center Richmond, ATTN: DSCR-SP, 8000 Jefferson Davis Highway, Richmond, VA 23297-5100.

Notification procedure:

Individuals seeking to determine whether this system of records contains information about themselves should address written inquiries to the Privacy Act Officer, Defense Supply Center Richmond, ATTN: SP, 8000 Jefferson Davis Highway, Richmond, VA 23297-5100.

Written requests should contain the full name and current address, telephone number of the individual, and approximate time frame involved.

Record access procedures:

Individuals seeking access to records about themselves contained in this system of records should address written inquiries to the Privacy Act Officer, Defense Supply Center Richmond, ATTN: DSCR-SP, 8000 Jefferson Davis Highway, Richmond, VA 23297-5100.

Written requests should contain the full name, current address, and telephone number of the individual. Depending on the nature of the records involved, requesters may be asked to supply Social Security Number and a notarized statement or a signed and dated unsworn declaration (in accordance with 28 U.S.C. 1746) stating under penalty of perjury that the information contained in the request for access, including their identity, is true and correct.

Contesting record procedures:

The DLA rules for accessing records, for contesting contents and appealing initial agency determinations are contained in DLA Regulation 5400.21, 32 CFR part 323, or may be obtained from the Privacy Act Officer, Headquarters, Defense Logistics Agency, ATTN: DSS-C, 8725 John J. Kingman Road, Suite 2533, Fort Belvoir, VA 22060-6221.

Record source categories:

Data is provided by the record subject, the FOIA/Privacy Act staff, and program software.

Exemptions claimed for the system:

None.

[FR Doc. 03-4066 Filed 2-19-03; 8:45 am]

BILLING CODE 5001-08-P